DEPARTMENT OF JUSTICE

National Institute of Corrections

Advisory Board; Notice of Meeting

This notice announces a forthcoming meeting of the National Institute of Corrections (NIC) Advisory Board.

Name of the Committee: NIC Advisory Board.

General Function of the Committee: To aid the National Institute of Corrections in developing long-range plans, advise on program development, and recommend guidance to assist NIC's efforts in the areas of training, technical assistance, information services, and policy/program development assistance to Federal, state, and local corrections agencies.

Date and Time: 12:30 p.m. ET-2:00 p.m. ET on Friday, June 23, 2023 (approximate times).

Location: Virtual.

Contact Person: Leslie LeMaster, Designated Federal Official, National Institute of Corrections, 320 First Street NW, Room 901-3, Washington, DC 20534. To contact Ms. LeMaster, please call (202) 305-5773 or llemaster@bop.gov.

Agenda: On June 23, 2023, the Advisory Board will: (1) receive a brief Agency Report from the NIC Director (A), and (2) review and discuss recent NIC Need Assessment Report. Time for questions and counsel from the Board is built into the agenda.

Procedure: On Friday, June 23, 2023, 12:30 p.m.-2:00 p.m. the meeting is open to the public. Interested persons may request to attend virtually, and present data, information, or views, in writing in advance, on issues pending before the committee. Such requests must be made to the contact person on or before June 20, 2023. Written presentations from the public will be scheduled between approximately 1:55 p.m.-2:00 p.m. on June 23, 2023. Time allotted for each written comment may be limited. Those who wish to make a formal written comment should notify the contact person and submit a brief statement of the general nature of the evidence or arguments they wish to present, the names and addresses of proposed participants, and an indication of the nature of the written comment before June 20, 2023.

Closed Committee Deliberations: No closed session is scheduled for June 23, 2023.

General Information: NIC welcomes the attendance of the public at its advisory committee meetings and will make every effort to accommodate persons with physical disabilities or special needs. If you require special accommodations due to a disability, please contact Leslie LeMaster at least 7 days in advance of the meeting. Notice of this meeting is given under the Federal Advisory Committee Act (5 U.S.C. app. 2).

Leslie S. LeMaster,
Designated Federal Official, National Institute of Corrections.

[FR Doc. 2023-12072 Filed 6-5-23; 8:45 am]

BILLING CODE P